DEPARTMENT OF DEFENSE

Department of the Air Force

Scientific Advisory Board

AGENCY: Department of the Air Force, DoD.

ACTION: Notice of closed meeting.

SUMMARY: The Prediction and Confirmation Tools Panel of the Predictive Battlespace Awareness to Improve Military Effectiveness Study will meet at Barksdale Air Force Base, Eglin Air Force Base, and Hurlburt Field. The purpose of this meeting is to allow the panel of this CSAF-directed study to continue the “data gathering” phase of the ongoing study efforts. The meeting will be closed to the public in accordance with Section 552b of Title 5, United States Code, specifically subparagraphs (10) and (4) thereof.

DATES: March 5-7, 2002.

ADDRESSES: Barksdale AFB, LA, Eglin AFB, FL, and Hurlburt Field, FL.

FOR FURTHER INFORMATION CONTACT: HQ USAF Scientific Advisory Board Secretariat, (703) 697-8404.

Pamela D. Fitzgerald,
Air Force Federal Register Liaison Officer.

[FR Doc. 02-6277 Filed 3-14-02; 8:45 am]

BILLING CODE 5001-05-P